Proclamation 9175 of September 26, 2014

National Public Lands Day, 2014

By the President of the United States of America

A Proclamation

From sandy beaches to snow-capped mountain tops, America's vast and varied landscapes stretch the breadth of our continent. These treasured spaces support outdoor recreation, serve as living classrooms and laboratories, and boost our local economies. Today, one-third of all our Nation's land is publicly owned—set aside for the use and enjoyment of every American. As we celebrate the expansive and magnificent beauty bequeathed to us by generations past, we recognize our profound obligation as caretakers of this natural bounty, and we rededicate ourselves to the important work of preserving and protecting our land and environment in our own time.

National Public Lands Day is the largest single-day volunteer effort for our country's public lands. On this day, Americans of all ages will help maintain and restore our Nation's outdoor resources and ecosystems at more than 2,200 sites across our country. Volunteers will remove trash from our beaches and clear debris from our hiking trails; from coast to coast, they will plant new trees, remove invasive species, and complete large and small projects to beautify and preserve our open spaces. This nationwide effort will help ensure these natural places are managed for future generations to enjoy, and it offers an opportunity for all Americans to give back to their favorite local park, beach, or outdoor retreat. In honor of this day of service, our National Parks and many of our federally managed lands will offer free admission.

My Administration is committed to making land stewardship and outdoor conservation a year-round effort. Through our America's Great Outdoors Initiative, we are empowering local communities to protect their own public spaces. We have also strengthened programs that connect all Americans with the outdoors and launched the 21st Century Conservation Service Corps, which will create more jobs preserving and restoring our Nation's lands and waters for young Americans and returning veterans.

This weekend, as we carry forward a legacy of conservation and stewardship, let us renew our commitment to protecting our environment and building a cleaner world. Together, we can ensure our children and grandchildren can enjoy the full splendor of our Nation's public and wild places.

NOW, THEREFORE, I, BARACK OBAMA, President of the United States of America, by virtue of the authority vested in me by the Constitution and the laws of the United States, do hereby proclaim September 27, 2014, as National Public Lands Day. I encourage all Americans to participate in a day of public service for our lands.

IN WITNESS WHEREOF, I have hereunto set my hand this twenty-sixth day of September, in the year of our Lord two thousand fourteen, and of the Independence of the United States of America the two hundred and thirty-ninth.

[FR Doc. 2014-23580

Filed 9-30-14; 11:15 am]

Billing code 3295-F5